DEPARTMENT OF COMMERCE

National Oceanic and Atmospheric Administration

[I.D. 103000B)

Marine Mammals; File No. 87-1593

AGENCY: National Marine Fisheries Service (NMFS), National Oceanic and Atmospheric Administration (NOAA), Commerce.

ACTION: Receipt of supplemental application.

SUMMARY: Notice is hereby given that Dr. Daniel P. Costa, Professor of Biology, Institute of Marine Sciences, University of California, Santa Cruz, CA 95064, has submitted supplemental information to scientific research permit application No. 87-1593.

DATES: Written or telefaxed comments must be received on or before December 15, 2000.

ADDRESSES: The application and related documents are available for review upon written request or by appointment in the following office(s):

Permits and Documentation Division, Office of Protected Resources, NMFS, 1315 East-West Highway, Room 13130, Silver Spring, MD 20910 (301/713-2289); and

Regional Administrator, Southwest Region, NMFS, 501 West Ocean Blvd., Suite 4200, Long Beach, CA 90802-4213 (562/980-4001).

FOR FURTHER INFORMATION CONTACT: Ruth Johnson or Simona Roberts, 301/713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant proposes to capture, measure, immobilize, tag, sample and release up to 25 Crabeater seals (Lobodon carcinophagus) annually, and up to 10 each: Leopard seals (Hydrurga leptonyx), Weddell seals (Leptonychotes weddellii) and Ross seals (Ommatophoca rossii) in Antarctica. This project will determine the distribution and foraging behavior of adult Crabeater seals, and simultaneously assess the impact that oceanographic features and prey aggregations have on the foraging strategies employed.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: November 7, 2000.
Ann D. Terbush,
Chief, Permits and Documentation Division, Office of Protected Resources, National Marine Fisheries Service.

[FR Doc. 00-29269 Filed 11-14-00; 8:45 am]

BILLING CODE 3510-22-S